DEPARTMENT OF HEALTH AND HUMAN SERVICES

Centers for Disease Control and Prevention

Agency for Toxic Substances and Disease Registry Academic Partners Public Health Training Grant

Announcement Type: New.

Funding Opportunity Number: RFA 05045.

Catalog of Federal Domestic Assistance Number: 93.283.

Dates: Letter of Intent (LOI) Deadline: March 2, 2005.

Application Deadline: March 17, 2005.

I. Funding Opportunity Description

Authority: 42 U.S.C.b(k)(2).

Purpose: The purpose of the program is to (a) provide trainees the opportunity to learn about broad, cross-cutting public health policy and program development at the Federal, state, and local government level; and (b) make progress toward achieving the prevention objectives of “Healthy People 2010.”

“Healthy People 2010,” the prevention agenda for the Nation, is a statement of national health objectives designed to identify the most significant preventable threats to health and establish national goals to reduce these threats. This program announcement addresses all the priority areas of “Healthy People 2010.”

Measurable outcomes of the program will be in alignment with one (or more) of the following goal(s) for the Centers for Disease Control and Prevention: (1) Implement training programs to build an effective health workforce to respond to current and emerging public health threats; and (2) increase the number of frontline public health workers at the federal, state, tribal and local level.

This announcement is only for non-research activities supported by CDC/ATSDR. If research is proposed, the application will not be reviewed. For the definition of research, please see the CDC Web site at the following Internet address: http://www.cdc.gov/od/ads/opspoll1.htm.

Activities: In conducting activities to achieve the purpose of this training grant, applicants will be responsible for developing one or more of the following training programs:

1. Fellowship Program: These programs are focused experience of 6 to 24 months targeted to students completing a master's or doctoral degree in the disciplines of public health, medicine, and preventive medicine prior to the beginning of the fellowship; and early career public health, medical, and preventive medicine professionals with a graduate degree.

2. Internship Program: These programs are generally twelve-weeks, with the possibility of one twelve week full time extension or up to 480 hours on a part time basis for full or part-time students enrolled in a Master's or doctoral level degree program.

3. Career Development Program: These are postgraduate experiences of varying duration targeted to an academic faculty and/or established public health professional who possesses a graduate degree in health science and/or related field. The project duration cannot exceed three years;

4. Preventive Medicine Resident Practicum: Residents enrolled in an academic, state, or local residency program in one of the following areas: Preventive Medicine/Public Health, Occupational Medicine or Aerospace Medicine. All programs must be accredited by the Accreditation Council for Graduate Medical Education (ACGME). Training opportunities, which may be filled by residents, include one three-month rotation at CDC/ATSDR, or one six-month rotation at the state/local level; or a split, or combination rotation, in which a resident spends three months at CDC/ATSDR and up to six months at the state/local level;

5. Short-term Training Program: These are targeted topic specific training opportunities for part-time masters, doctoral degree candidates, and/or medical students/residents. Project may begin at any time and are to be completed with a maximum period of six months; and or;

6. Medical Student Training Program: Programs from 4-12 weeks available for Medical students as either elective rotations or non-credit special projects.

For the purpose of this program announcement, students will be identified as trainees for the six training programs listed above. Applicants may submit a separate application for one or more of the six individual training programs.

Activities:

Awardees activities for these programs are as follows:

• Identify training needs by working with one or more of the following: accredited public health, and preventive medicine schools and programs; teaching hospitals; state and local governmental public health agencies with public health, medical, and preventive medicine specialist training and education programs, and continuing education programs.

• Develop a training program to provide exposure to a broad array of policy and program development areas, and attain competency in applying analytical methods through specific projects.

• Develop a program plan that includes the following:

1. Advertising and marketing the training program.

2. Developing guidelines for trainees and mentors.

3. Screening and selecting trainees.

4. Orientation to program, federal system, benefits and obligations.

5. Matching trainees with mentors.

6. Monitoring and evaluation of trainee's progress.

7. Monitoring trainee's accounting (stipend; travel; allowance).

8. Resolving unexpected problems.

9. Evaluation of the training program.

• Establish an advisory committee to provide guidance and to determine the specifics of the training program.

• Coordinate meetings with trainees to receive feedback from program evaluations upon completion of their training.

• Facilitate partnerships to enhance recruitment of minority applicants.

II. Award Information

Type of Award: Grant.

Fiscal Year Funds: 2005.

Approximate Total Funding: $4,000,000. (This amount is an estimate, and is subject to availability of funds.)

Approximate Number of Awards: Three-Six.

Approximate Average Award: $278,000—$1,000,000. (This amount is for the first 12-month budget period, and includes both direct and indirect costs.)

Floor of Award Range: None.

Ceiling of Award Range: $1,000,000. (This ceiling is for the first 12-month budget period.)

Anticipated Award Date: May 2, 2005.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations such as:

• Public nonprofit organizations.

• Private nonprofit organizations.

• Faith-based organizations.

• American Indian, Alaska Native, Native Hawaiian and Hispanic health professions organizations.

• Historical black colleges and universities.

• Asian and Pacific Islanders' health professions organizations.

In the United States, the primary educational system that trains personnel needed to operate the Nation's local, state, and Federal public health agencies is made up of institutions which emphasize public health, medicine, and preventive medicine in their academic programs. In an effort to reach numerous institutions CDC has worked collaboratively with various organizations to include public non-profit, private nonprofit, faith-based, American Indian, Alaska Native, Native Hawaiian and Hispanic health professions, Historical black colleges and universities, and Asian and Pacific-Islanders health professions organizations to develop a high quality and diverse public health workforce.

This collaborative effort with CDC/ATSDR enabled these organizations to further develop the public health workforce and improve the interaction between public health academicians. These organizations help enhance the preparation of future public health workers, as well as to meet the Healthy People 2010 objectives at the state and local level. They provide advance education to prepare students for the work of controlling and preventing disease and managing the nation's health resources.

In addition, these organizations have the capacity to strengthen the public health workforce by providing structured multi-disciplinary training and professional development opportunities to preventive medicine residents, medical students, public health students, master's/doctoral level students and career professionals.

The training programs funded by this grant will further prepare students by providing practical training, which builds upon their graduate education. For students and new graduates, these training programs will serve as a transition from academia to professional public health practice. The Career Development Program will also provide hands-on training in contemporary public health practice to upgrade the knowledge, skills, and abilities of public health, medical, and preventive medicine faculty and early career professionals.

This Training Grant will assist in fulfilling CDC/ATSDR's mission by preparing the next generation of public health professionals.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• An LOI is requested (see section “IV.3. Submission Dates and Times”),

• If your proposed project exceeds “Project Period Length” (see section “II. Award Information”) your application will be considered non-responsive and will not be entered into the review process.

• Applicants who fail to meet the eligibility requirements in section “III.1. Eligible Applicants” will be considered non-responsive and will not be entered into the review process.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on http://www.Grants.gov, the official Federal agency wide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI)

Electronic Submission: You may submit your LOI electronically at: http://www.grants.gov by filling out the required Grants.gov information and attach a word document.

Paper Submission: If submitting by paper copy, send the original and two hard copies of your application by mail or express delivery service.

Your LOI must be written in the following format:

• Maximum number of pages: 3.

• Font size: 12-point unreduced.

• Single spaced.

• Paper size: 8.5 by 11 inches.

• Page margin size: One inch.

• Printed only on one side of page.

• Written in plain language, avoid jargon and undefined acronyms.

Your LOI must contain the following information:

• Title of this Announcement.

• Descriptive Title of your proposed Training Grant.

• Name, address, e-mail address, and telephone number of the Principal Investigator.

• Names of other key personnel.

• A brief summary of the proposed Training Grant.

Application

Electronic Submission: You may submit your application electronically at: http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission: If you plan to submit your application by hard copy, submit the original and two hard copies of your application by mail or express delivery service. Refer to section IV.6. Other Submission Requirements for submission address.

You must submit a project narrative with your application forms. The narrative must be submitted in the following format:

• Maximum number of pages: 30 pages. If your narrative exceeds the page limit; only the first pages which are within the page limit will be reviewed.

• Font size: 12-point unreduced.

• Single spaced.

• Paper size: 8.5 by 11 inches.

• Page margin size: One inch.

• Printed only on one side of page.

• Clearly numbered pages.

• Held together only by metal clips; not bound in any other way.

Your narrative should address activities to be conducted over the entire project period, and must include the following items in the order listed below:

1. Background

Briefly describe the background, critically evaluating the national, regional and local need/demand for the project and specifically identifying the gaps, which the project is intended to fill.

2. Goals and Objectives

a. List goals specifically related to program requirements, and indicate expected program outcome at the end of the three-year project period.

b. Address program objectives (objectives of the overall program) and educational objectives (objectives specifying what trainees will be able to do upon completion of the training program) which will be accomplished through support of the proposed project. Objectives should be measurable, feasible, and time phased to be accomplished during the projected 12-month budget period. Also objectives should relate directly to the program goals.

3. Method

a. Provide a yearly timeline describing activities, methods, strategies and techniques that will be used to accomplish the objectives of the project.

b. Identify strategies and activities for increasing the applicant's involvement in promoting and supporting the training program.

c. Explain the review process for the selection of Trainees, addressing CDC program goals and objectives.

4. Evaluation Plan

a. Describe how each of the activities and their impact will be evaluated.

b. Describe how progress toward meeting project objectives will be monitored.

c. The evaluation plan should address measures considered critical to determine the success of the plan outlined by the applicant, and results should be used for improvement of the intended plan.

5. Project Management and Staffing Plan

a. Describe the proposed staffing for the project and submit job descriptions of key personnel illustrating their qualifications and experience to carryout project activities.

b. Describe the organization's structure and function, and how it supports health promotion and educational activities.

c. Describe application appendices; include curriculum vitae for each key personnel named in the proposal.

6. Budget Plan and Budget Justification (The budget and justification will not be counted in the page limit)

a. Provide a detailed budget and budget justifications, which indicate the anticipated costs for personnel, fringe benefits, travel, supplies, contractual, consultants, equipment, indirect, and other items.

Applications should include budget items for travel to CDC sponsored meetings.

Additional information may be included in the application appendices. The appendices will not be counted toward the narrative page limit. This additional information includes:

• As a separate appendix to the application, the applicant must provide a labeled “Documentation of Eligibility,” and the location of the appendix must be identified in the table of contents. This appendix should succinctly summarize the applicant's eligibility and should include experience and expertise as they relate to the eligibility requirements for this training program.

• Principal Investigator must provide documented evidence of his or her experience, expertise, ability, and institutional support to accomplish the proposed project. The Principal Investigator should have at least two years of related experience.

• Biographical sketches and Curriculum Vitaes must be provided for key personnel responsible for planning and implementing this training program.

• Provide letters of support illustrating applicant's experience in managing training programs.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: March 2, 2005.

CDC requests that you submit a LOI if you intend to apply for this program. Although the LOI is not required, not binding, and does not enter into review of your subsequent application, the LOI will be used to gauge the level of interest in this program, and to allow CDC to plan the application review.

Application Deadline Date: April 1, 2005.

Explanation of Deadlines: LOIs and Applications must be received in the CDC Procurement and Grants Office by 4 p.m. eastern time on the deadline date. If you submit your LOI or application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

Electronic Submission: If you submit your application electronically with Grants.gov, your application will be electronically time/date stamped which will serve as receipt of submission. In turn, you will receive an e-mail notice of receipt when CDC receives the application. All electronic applications must be submitted by 4 p.m. eastern time on the application due date.

Paper Submission: CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds may not be used for research.

• Reimbursement of pre-award costs is not allowed.

If you are requesting indirect costs in your budget, you must include a copy of your indirect cost rate agreement. If your indirect cost rate is a provisional rate, the agreement should be less than 12 months old.

Guidance for completing your budget can be found on the CDC Web site, at the following Internet address: http://www.cdc.gov/od/pgo/funding/budgetguide.htm.

IV.6. Other Submission Requirements

LOI Submission Address: Submit your LOI by express mail, delivery service, fax, or e-mail to: Ruth E. Harris, Project Officer, Office of Workforce and Career Development (OWCD), 4770 Buford Highway, NE. (MS K-38), Atlanta, GA 30341. Telephone Number: 770-488-2522. Fax: 770-488-2574. E-mail address: reh6@cdc.gov.

Application Submission Address

Electronic Submission: CDC strongly encourages applicants to submit electronically at: http://www.Grants.gov. You will be able to download a copy of the application package from http://www.Grants.gov, complete it offline, and then upload and submit the application via the Grants.gov site. E-mail submissions will not be accepted. If you are having technical difficulties in Grants.gov they can be reached by e-mail at http://www.support@grants.gov or by phone at 1-800-518-4726 (1-800-518-GRANTS). The Customer Support Center is open from 7 a.m. to 9 p.m. eastern time, Monday through Friday.

Paper Submission: If you chose to submit a paper application, submit the original and two hard copies of your application by mail or express delivery service to: Technical Information Management—RFA 05045, CDC Procurement and Grants Office, 2920 Brandywine Road, Atlanta, GA 30341.

V. Application Review Information

V.1. Criteria

Applicants are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

Your application will be evaluated against the following criteria:

1. Goals and Objectives (30 Points)

a. Are the goals and objectives clearly stated, realistic, time-phased, and adequately detailed as it relates to the programmatic requirements proposed in the program announcement?

b. Are the objectives and goals measurable, feasible and time sufficient to accomplish the project during a 12 month period?

2. Method (30 Points)

a. To what extent does the applicant describe the methodologies for accomplishing the program objectives?

b. Has the applicant described the program activities and provided a yearly timeline?

c. Has the applicant clearly explained the review process for the selection of Trainees as it relates to the goals and objectives?

d. Has the applicant clearly identified strategies and program activities to support the training program?

3. Evaluation Plan (20 Points)

a. Did the applicant provide a detailed plan for evaluating progress towards meeting the goals and objectives of the project and its impact?

b. Did evaluation plan appear to be reasonable and feasible?

c. Did applicant describe how the progress toward meeting the project objectives will be monitored?

4. Project Management and Staffing Plan (20 Points)

a. Are the proposed project personnel fully qualified, with evidence of experience and evidence in past activities or achievements appropriate to a project of this magnitude and scope?

b. Did the applicant give a detailed description of the systems and procedures which will be used to manage the progress, budget, and operations of the project?

c. Did the applicant clearly describe the organization's structure and functions as it relates to supporting health promotion and educational activities?

5. Budget (Not Scored)

a. How well does the applicant provide justification for budget expenditures as well as appropriateness of activities proposed in the application?

b. Was the budget reasonable, clearly justified, and consistent with the intended use of the grant funds?

V.2. Review and Selection Process

Applications will be reviewed for completeness by the Procurement and Grants Office (PGO) staff and for responsiveness by Coordinating Center for Health Information and Service (CoCHIS). Incomplete applications and applications that are non-responsive to the eligibility criteria will not advance through the review process. Applicants will be notified that their application did not meet submission requirements.

An objective review panel will evaluate complete and responsive applications according to the criteria listed in section “V.1. Criteria.” Applicants may submit a separate application for any or all of the following six individual programs stated in section “I. Activities”: (1) Fellowship Program; (2) Internship Program; (3) Career Development Program; (4) Preventive Medicine Resident Practicum; (5) Short-term Training Program; and (6) Medical Student Training Program. Each application will be evaluated on a 100-point basis to determine the applicant's numerical score in each individual program area for which they apply. The objective review panel will consist of three reviewers from CDC staff, which are not employees of the cognizant program office. Each reviewer will present his or her findings to the panel. The panel will vote to approve or disapprove based upon the criteria listed in section “V.1.Criteria.”

In addition, the following factors may affect the funding decision:

• Availability of funds.

• Preference will be given to organizations with: (1) Three or more years experience in developing graduate level training and education programs in public health, public health related disciplines, and preventive medicine, nationally; (2) the capacity for national-level reach and collaboration with accredited institutions or schools; and state and local governmental public health agencies with public health, (3) three or more years of access to graduate students, faculty, researchers, and professionals in the disciplines of public health, medicine, and preventive medicine, nationally; and (4) evidence of recruiting a diverse applicant pool including underrepresented minorities.

Applications will be funded in order by score and rank determined by the review panel. CDC/ASTDR will provide justification for any decision to fund out of rank order.

V.3. Anticipated Announcement and Award Dates

May 2, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR parts 74 and 92.

For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1-Certificates.pdf. Once the form is filled out attach it to your Grants.gov submission as Other Attachments Form.

The following additional requirements apply to this project:

• AR-10 Smoke-Free Workplace Requirements.

• AR-11 Healthy People 2010.

• AR-12 Lobbying Restrictions.

• AR-14 Accounting System Requirements.

• AR-15 Proof of Non-Profit Status.

• AR-16 Security Clearance Requirement.

• AR-23 States and Faith-Based Organizations.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, due no more than 90 days after the end of the budget period.

3. Final financial and performance reports, due no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341.

Telephone: 770-488-2700.

For program technical assistance, contact: Ruth E. Harris, Project Officer, Office of Workforce and Career Development, 4770 Buford Highway, NE., MSK-38, Atlanta, GA 30341.

Telephone: 770-488-2522.

E-mail: reh6@cdc.gov.

For financial, grants management, or budget assistance, contact: Rick Jaeger, Grants Management Specialist, CDC Procurement and Grants Office, 2920 Brandywine Road, Atlanta, GA 30341.

Telephone: 770-488-2727.

E-mail: ryj4@cdc.gov.

VIII. Other Information

This and other CDC funding opportunity announcements can be found on the CDC Web site, Internet address: http://www.cdc.gov. Click on “Funding” then “Grants and Cooperative Agreements.”

The Director, Procurement and Grants Office, CDC, has been delegated the authority to sign Federal Register notices pertaining to the availability of grant and cooperative agreement funds.

Dated: February 9, 2005.
William P. Nichols,
Director, Procurement and Grants Office, Centers for Disease Control and Prevention.

[FR Doc. 05-2851 Filed 2-14-05; 8:45 am]

BILLING CODE 4163-18-P